DEPARTMENT OF TRANSPORTATION

Pipeline and Hazardous Materials Safety Administration

Notice of Application for Modification of Special Permit

AGENCY: Office of Hazardous Materials Safety, Pipeline and Hazardous Materials Safety Administration (PHMSA), DOT.

ACTION: List of application for modification of special permits.

SUMMARY: In accordance with the procedures governing the application for, and the processing of, special permits from the Department of Transportation's Hazardous Material Regulations (49 CFR part 107, subpart B), notice is hereby given that the Office of Hazardous Materials Safety has received the applications described herein. This notice is abbreviated to expedite docketing and public notice. Because the sections affected, modes of transportation, and the nature of application have been shown in earlier Federal Register publications, they are not repeated here. Requests for modification of special permits (e.g. to provide for additional hazardous materials, packaging design changes, additional mode of transportation, etc.) are described in footnotes to the application number. Application numbers with the suffix “M” denote a modification request. These applications have been separated from the new application for special permits to facilitate processing.

DATES: Comments must be received on or before February 5, 2015.

Address Comments To: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue Southeast, Washington DC or at http://regulations.gov.

This notice of receipt of applications for modification of special permit is published in accordance with Part 107 of the Federal hazardous materials transportation law (49 U.S.C. 5117(b); 49 CFR 1.53(b)).

Issued in Washington, DC, on January 8, 2015.
Donald Burger,
Chief, General Approvals and Permits.

Modification Special Permits
Application No. | Docket No. | Applicant | Regulation(s) affected | Nature of special permit thereof
7945-M |  | Pacific Scientific Company, Simi Valley, CA | 49 CFR 173.304(a)(1); 175.3 | To modify the special permit to exempt sufficient outage when cylinders are full.
10427-M |  | Astrotech Space Operations, Inc., Titusville, FL | 49 CFR 173.61(a), 173.301(g), 173.302(a), 173.336, and 177.848(d) | To modify the special permit to authorize additional launch vehicles and increase the amount of Anhydrous ammonia to 120 pounds.
11253-M |  | DPC Industries, Inc., Houston, TX | 49 CFR 172.101, Special Provision B14; 173.315, Notes 4, 24 | To modify the special permit to add an additional cargo tank.
12084-M |  | Honeywell International, Inc., Morristown, NJ | 49 CFR 180.209 | To modify the special permit to authorize an additional hazardous material.
12116-M |  | Proserv UK Ltd., East Tullos, Aberdeen | 49 CFR 178.36 | To modify the special permit to authorize use of a stronger and more corrosion resistant material to be used to manufacture certain parts of the cylinders.
12748-M |  | Lockheed Martin Space Systems Company, Santa Cruz, CA | 49 CFR 178.601(a) | To modify the special permit to authorize additional hazardous materials.
12929-M |  | Western International Gas & Cylinders, Inc. (Western), Bellville, TX | 49 CFR 173.301(j)(1) | To modify the special permit to change the refill requirements.
14301-M |  | Gascon (Pty) Ltd., Elsied River, South Africa | 49 CFR 178.274(b), 178.276(b)(1) | To modify the special permit to authorize manufacture of UN portable tanks in accordance with ASME Section VIII Division 2, latest edition.
14625-M |  | Sun & Skin Care Research, Inc. Cocoa, FL | 49 CFR 173.306(a)(3)(v) | To modify the special permit to include the use of DOT-2P aluminum cans.
14779-M |  | Corrosion Companies Inc., Washougal, WA | 49 CFR 107.503(b) and (c), 173.241, 173.242, 173.243 and 173.345 | To modify the special permit to increase the tank capacity to 8500 gallons.
15071-M |  | Orbital Sciences Corporation, Dulles, VA | 49 CFR 173.62(c) | To modify the special permit to authorize cargo aircraft only.
15716-M |  | Department of Energy, Washington, DC | 49 CFR 173.310 | To modify the special permit to authorize an additional material.
15744-M |  | Praxair Distribution, Inc., Danbury, CT | 49 CFR 180.205; 180.209 | To modify the special permit to exempt the notation “DOT-SP” 15744 on shipping papers.
15773-M |  | Roche Molecular Systems, Inc., Branchburg, NJ | 49 CFR 173.242(e)(1) | To modify the special permit to authorize bulk packaging.
15848-M |  | Ambri, Inc., Cambridge, MA | 49 CFR 173.222(c)(1) | To modify the special permit to authorize cargo vessel.

Billing Code: 4909-60

[FR Doc. 2015-00705 Filed 1-20-15; 8:45 am]

BILLING CODE M